DEPARTMENT OF HEALTH AND HUMAN SERVICES

Centers for Disease Control and Prevention

[60Day-26-0134; Docket No. CDC-2026-0001]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled Land Activity Illness and Death Reporting. This data collection is designed to collect necessary information needed for CDC to conduct public health response and follow up in the event an individual with a confirmed or suspected communicable disease is known to have traveled via land conveyance across an international land or state border.

DATES: CDC must receive written comments on or before March 16, 2026.

ADDRESSES: You may submit comments, identified by Docket No. CDC-2026-0001 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected.

4. Minimize the burden of the collection of information on those who are to respond, including through the use of appropriate automated, electronic, mechanical, or other technological collection techniques or other forms of information technology, e.g., permitting electronic submissions of responses; and

5. Assess information collection costs.

Proposed Project

Land Activity Illness and Death Reporting (OMB Control No. 0920-0134, Exp. 3/31/2026)—Revision—National Center for Emerging and Zoonotic Infectious Diseases (NCEZID), Centers for Disease Control and Prevention (CDC).

Background and Brief Description

The goal of this information collection is to ensure that, consistent with the authorities in the Public Health Service Act and CFR parts 70 and 71, Centers for Disease Control and Prevention (CDC) is able to prevent the introduction, transmission or spread of communicable diseases from foreign countries into the United States or from one State or possession into any other State or possession. This information collection focuses on collecting necessary information needed for CDC to conduct public health response and follow up in the event an individual with a confirmed or suspected communicable disease is known to have traveled via land conveyance (e.g., bus, train, other) across an international land border or state borders while infectious or potentially infectious, presenting a risk of disease spread to others. This information collection includes collection of conveyance, passenger and crew contact information from land conveyance operators (aka manifests) for contact investigations. Additionally, this information collection includes forms to obtain information on the outcomes of the contact investigations carried out by international, state, local, or territorial public health professionals to assess the impacts of CDC regulatory activities.

With this current submission, CDC is requesting a Revision with the aim of improving efficiency of DGMH's land activities PRA submission process through aggregation under a single OMB Control Number. One form (Attachment B) will stay in 0920-0134. All other information collection tools currently approved in 0920-0134 will move to 0920-0488 or 0920-1335. CDC is requesting that one form (Attachment F) will move from OMB control 0920-0900 to 0920-0134. Finally, four new information collection tools are being added to this information collection request for 0920-0134 (Attachments C, D, E, and G).

CDC requests OMB approval for an estimated 83 annualized burden hours. There is no cost to respondents other than their time to participate.

Estimated Annualized Burden Hours
Type of respondents | Form name | Number of respondents | Number of responses per respondent | Average burden per response (in hours) | Total burden (in hours)
Traveler State/Local/Territorial or International Public Health Staff | Land Travel Illness or Death Investigation Form | 62 | 1 | 15/60 | 16
Traveler/State/Local/Territorial or International Public Health Staff | Land Passenger Locator Form (New) | 60 | 1 | 5/60 | 5
Land Conveyance Operator Medical/Safety Officer or Equivalent/Computer and Information Systems Manager | International Land Conveyance Manifest Order Template (New) | 5 | 1 | 6 | 30
Land Conveyance Operator Medical/Safety Officer or Equivalent/Computer and Information Systems Manager | Domestic Land Conveyance Manifest Order Template (New) | 5 | 1 | 6 | 30
State/Local/Territorial or International Public Health Staff | General Land Contact Investigation Outcome Reporting Form | 5 | 1 | 10/60 | 1
State/Local/Territorial or International Public Health Staff | TB Land Contact Investigation Outcome Reporting Form (New) | 5 | 1 | 10/60 | 1
Total |  |  |  |  | 83

Jeffrey M. Zirger,
Lead, Information Collection Review Office, Office of Public Health Ethics and Regulations, Office of Science, Centers for Disease Control and Prevention.

[FR Doc. 2026-00422 Filed 1-12-26; 8:45 am]

BILLING CODE 4163-18-P